DEPARTMENT OF VETERANS AFFAIRS

[OMB Control No. 2900-0117]

Proposed Information Collection (VA Form Letter 5-127, Inquiry Concerning Applicant for Employment) Activity: Comment Request

AGENCY: Human Resources Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 26, 2016.

ADDRESSES: Submit written comments on the collection of information through wwwRegulations.gov, or to Office of Information and Regulatory Affairs, Office of Management and Budget, Attn: VA Desk Officer; 725 17th St. NW., Washington, DC 20503 or sent through electronic mail to oira_submission@omb.eop.gov. Please refer to “OMB Control No. 2900-0117” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov . Please refer to “OMB Control No. 2900-0117”

SUPPLEMENTARY INFORMATION: Title: VA Form Letter 5-127, Inquiry concerning Applicant for Employment.

OMB Control Number: 2900-0117.

Type of Review: Extension of a Currently Approved Collection.

Abstract: The information obtained through use of VA Form Letter 5-127 is used by appointing officials in determining an applicant's suitability and qualifications for employment.

Affected Public: Individuals or households.

Estimated Annual Burden: 3,125 hours.

Estimated Average Burden per Respondent: 15 minutes.

Frequency of Response: Annual.

Estimated Number of Respondents: 12,500.

By direction of the Secretary.
Cynthia Harvey-Pryor,
Program Specialist, Office of Privacy and Records Management, Department of Veterans Affairs.

[FR Doc. 2016-20338 Filed 8-24-16; 8:45 am]

BILLING CODE 8320-01-P